DEPARTMENT OF TRANSPORTATION

Federal Aviation Administration

14 CFR Part 97

[Docket No. 30921; Amdt. No. 3556]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 30, 2013. The compliance date for each SIAP, associated Takeoff Minimums, and ODP is specified in the amendatory provisions.

The incorporation by reference of certain publications listed in the regulations is approved by the Director of the Federal Register as of September 30, 2013.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97:

Air traffic control, Airports, Incorporation by reference, and Navigation (air).

Issued in Washington, DC, on September 13, 2013.
John Duncan,
Director, Flight Standards Service.

Adoption of the Amendment

Accordingly, pursuant to the authority delegated to me, Title 14, Code of Federal Regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
10/17/13 | AK | Koyuk | Koyuk Alfred Adams | 2/3762 | 9/5/13 | NDB RWY 1, Amdt 1A
10/17/13 | AK | Koyuk | Koyuk Alfred Adams | 2/3763 | 9/5/13 | NDB/DME RWY 1, Amdt 1A
10/17/13 | OR | Sunriver | Sunriver | 3/0191 | 9/10/13 | RNAV (GPS) RWY 18, Orig-A
10/17/13 | OR | Sunriver | Sunriver | 3/0192 | 9/10/13 | VOR/DME RWY 18, Amdt 1
10/17/13 | FL | Fort Lauderdale | Fort Lauderdale/Hollywood Intl | 3/0422 | 9/5/13 | RNAV (GPS) Y RWY 28R, Amdt 3A
10/17/13 | GA | Alma | Bacon County | 3/0528 | 9/10/13 | RNAV (GPS) RWY 33, Orig
10/17/13 | GA | Alma | Bacon County | 3/0529 | 9/10/13 | RNAV (GPS) RWY 15, Amdt 1
10/17/13 | OH | Hamilton | Butler CO Rgnl | 3/1006 | 8/29/13 | ILS OR LOC RWY 29, Amdt 1A
10/17/13 | CA | Half Moon Bay | Half Moon Bay | 3/1036 | 8/29/13 | Takeoff Minimums and (Obstacle) DP, Orig
10/17/13 | CT | Meriden | Meriden Markham Muni | 3/2626 | 9/5/13 | RNAV (GPS) RWY 36, Orig-A
10/17/13 | CT | Meriden | Meriden Markham Muni | 3/2627 | 9/5/13 | VOR RWY 36, Amdt 4A
10/17/13 | WA | Bellingham | Bellingham Intl | 3/2757 | 9/10/13 | ILS OR LOC RWY 16, ILS RWY 16 (SA CAT I), Amdt 7
10/17/13 | AK | Savoonga | Savoonga | 3/3472 | 8/29/13 | VOR/DME RWY 23, Amdt 1A
10/17/13 | AK | Savoonga | Savoonga | 3/3474 | 8/29/13 | RNAV (GPS) RWY 23, Amdt 1A
10/17/13 | AK | Savoonga | Savoonga | 3/3476 | 8/29/13 | VOR RWY 23, Amdt 1A
10/17/13 | AK | Savoonga | Savoonga | 3/3482 | 8/29/13 | RNAV (GPS) RWY 5, Amdt 1
10/17/13 | OK | Tulsa | Tulsa Intl | 3/3993 | 9/10/13 | RNAV (GPS) RWY 36R, Amdt 1
10/17/13 | OK | Tulsa | Tulsa Intl | 3/3994 | 9/10/13 | VOR/DME RWY 8, Amdt 4
10/17/13 | OK | Tulsa | Tulsa Intl | 3/3996 | 9/10/13 | ILS OR LOC RWY 18L, Amdt 15B
10/17/13 | OK | Tulsa | Tulsa Intl | 3/3999 | 9/10/13 | RNAV (GPS) RWY 18L, Amdt 1A
10/17/13 | OK | Tulsa | Tulsa Intl | 3/4000 | 9/10/13 | ILS OR LOC RWY 18R, Amdt 7B
10/17/13 | OK | Tulsa | Tulsa Intl | 3/4001 | 9/10/13 | RNAV (GPS) Y RWY 26, Amdt 3A
10/17/13 | OK | Tulsa | Tulsa Intl | 3/4002 | 9/10/13 | VOR OR TACAN RWY 26, Amdt 24A
10/17/13 | OK | Tulsa | Tulsa Intl | 3/4003 | 9/10/13 | RNAV (GPS) RWY 36L, Orig-B
10/17/13 | OK | Tulsa | Tulsa Intl | 3/4005 | 9/10/13 | ILS OR LOC RWY 36R, Amdt 29B
10/17/13 | OK | Tulsa | Tulsa Intl | 3/4010 | 9/10/13 | RNAV (GPS) Y RWY 18R, Amdt 1B
10/17/13 | MI | Escanaba | Delta County | 3/4011 | 9/10/13 | RNAV (GPS) RWY 9, Orig
10/17/13 | MI | Escanaba | Delta County | 3/4012 | 9/10/13 | LOC/DME BC RWY 27, Amdt 1
10/17/13 | MI | Escanaba | Delta County | 3/4013 | 9/10/13 | VOR RWY 9, Amdt 14
10/17/13 | MI | Escanaba | Delta County | 3/4014 | 9/10/13 | VOR RWY 36, Orig-A
10/17/13 | MI | Escanaba | Delta County | 3/4015 | 9/10/13 | VOR RWY 27, Amdt 12
10/17/13 | MI | Escanaba | Delta County | 3/4024 | 9/10/13 | ILS OR LOC RWY 9, Amdt 2A
10/17/13 | MI | Escanaba | Delta County | 3/4031 | 9/10/13 | RNAV (GPS) RWY 27, Amdt 1
10/17/13 | OK | Stillwater | Stillwater Rgnl | 3/4057 | 9/10/13 | RNAV (GPS) RWY 17, Orig
10/17/13 | OK | Stillwater | Stillwater Rgnl | 3/4061 | 9/10/13 | VOR/DME RWY 35, Amdt 1
10/17/13 | OK | Stillwater | Stillwater Rgnl | 3/4062 | 9/10/13 | NDB RWY 17, Amdt 1
10/17/13 | OK | Stillwater | Stillwater Rgnl | 3/4075 | 9/10/13 | ILS OR LOC RWY 17, Amdt 2A
10/17/13 | OK | Stillwater | Stillwater Rgnl | 3/4076 | 9/10/13 | VOR RWY 17, Amdt 14
10/17/13 | MO | Joplin | Joplin Rgnl | 3/4170 | 9/10/13 | ILS OR LOC/DME RWY 18, Amdt 2
10/17/13 | MO | Joplin | Joplin Rgnl | 3/4173 | 9/10/13 | RNAV (GPS) RWY 36, Orig
10/17/13 | MO | Joplin | Joplin Rgnl | 3/4181 | 9/10/13 | LOC BC RWY 31, Amdt 21A
10/17/13 | MO | Joplin | Joplin Rgnl | 3/4189 | 9/10/13 | RNAV (GPS) RWY 13, Orig
10/17/13 | MO | Joplin | Joplin Rgnl | 3/4191 | 9/10/13 | ILS OR LOC/NDB RWY 13, Orig
10/17/13 | IN | Frankfort | Frankfort Muni | 3/4259 | 9/5/13 | NDB RWY 9, Amdt 3
10/17/13 | OR | Corvallis | Corvallis Muni | 3/4265 | 8/29/13 | NDB RWY 17, Amdt 2
10/17/13 | TX | Perryton | Perryton Ochiltree County | 3/4294 | 9/5/13 | NDB A, Amdt 4
10/17/13 | UT | Salt Lake City | Salt Lake City Intl | 3/4342 | 8/29/13 | ILS OR LOC RWY 16R, ILS RWY 16R (SA CAT I), ILS RWY 16R (CAT II & III), Amdt 3A
10/17/13 | CA | Fresno | Fresno Yosemite Intl | 3/4531 | 8/29/13 | LOC RWY 11L, Amdt 2
10/17/13 | WA | Pasco | Tri-Cities | 3/4547 | 8/29/13 | RNAV (RNP) Z RWY 21R, Orig
10/17/13 | WA | Bellingham | Bellingham Intl | 3/4550 | 9/10/13 | RNAV (GPS) Y RWY 16, Amdt 2
10/17/13 | WA | Bellingham | Bellingham Intl | 3/4558 | 9/10/13 | RNAV (GPS) Y RWY 34, Amdt 1
10/17/13 | TN | Humboldt | Humboldt Muni | 3/4697 | 9/5/13 | VOR/DME-A, Amdt 5
10/17/13 | AK | Kaltag | Kaltag | 3/4804 | 8/29/13 | RNAV (GPS) RWY 21, Amdt 1
10/17/13 | MO | Sedalia | Sedalia Rgnl | 3/4881 | 8/29/13 | NDB RWY 18, Amdt 8
10/17/13 | MO | Sedalia | Sedalia Rgnl | 3/4882 | 8/29/13 | NDB RWY 36, Amdt 9
10/17/13 | NJ | Teterboro | Teterboro | 3/4893 | 8/29/13 | RNAV (GPS) Y RWY 6, Amdt 2A
10/17/13 | AK | Deadhorse | Deadhorse | 3/4995 | 9/5/13 | ILS OR LOC/DME RWY 5, Amdt 2C
10/17/13 | AR | Dumas | Billy Free Muni | 3/5037 | 9/10/13 | VOR/DME RWY 36, Amdt 3
10/17/13 | NM | Carlsbad | Cavern City Air Trml | 3/5039 | 9/5/13 | ILS RWY 3, Amdt 4B
10/17/13 | NM | Carlsbad | Cavern City Air Trml | 3/5040 | 9/5/13 | VOR RWY 32L, Amdt 6
10/17/13 | MS | Jackson | Jackson-Evers Intl | 3/5201 | 9/10/13 | ILS OR LOC RWY 34L, Amdt 6
10/17/13 | CO | Holyoke | Holyoke | 3/5265 | 8/29/13 | RNAV (GPS) RWY 14, Orig-B
10/17/13 | CO | Holyoke | Holyoke | 3/5269 | 8/29/13 | RNAV (GPS) RWY 32, Orig-A
10/17/13 | AK | Anaktuvuk Pass | Anaktuvuk Pass | 3/5282 | 8/29/13 | NDB B, Amdt 1
10/17/13 | AK | Anaktuvuk Pass | Anaktuvuk Pass | 3/5283 | 8/29/13 | RNAV (GPS) A, Amdt 1
10/17/13 | MS | Meridian | Key Field | 3/5382 | 9/10/13 | ILS OR LOC RWY 19, Amdt 1
10/17/13 | MS | Meridian | Key Field | 3/5396 | 9/10/13 | Takeoff Minimums and (Obstacle) DP, Amdt 5
10/17/13 | AK | Point Hope | Point Hope | 3/5413 | 8/29/13 | NDB RWY 1, Amdt 2
10/17/13 | AK | Point Hope | Point Hope | 3/5414 | 8/29/13 | NDB RWY 19, Amdt 2
10/17/13 | AK | Soldotna | Soldotna | 3/5520 | 9/5/13 | RNAV (GPS) RWY 7, Orig-A
10/17/13 | AK | Soldotna | Soldotna | 3/5521 | 9/5/13 | VOR/DME A, Amdt 7C
10/17/13 | AK | Soldotna | Soldotna | 3/5523 | 9/5/13 | NDB RWY 7, Amdt 2A
10/17/13 | AK | Soldotna | Soldotna | 3/5525 | 9/5/13 | NDB RWY 25, Amdt 3
10/17/13 | AZ | Kingman | Kingman | 3/5782 | 8/29/13 | RNAV (GPS) RWY 3, Orig
10/17/13 | AZ | Kingman | Kingman | 3/5783 | 8/29/13 | VOR/DME RWY 21, Amdt 7
10/17/13 | AZ | Kingman | Kingman | 3/5787 | 8/29/13 | RNAV (GPS) Y RWY 21, Orig
10/17/13 | AZ | Kingman | Kingman | 3/5790 | 8/29/13 | RNAV (GPS) Z RWY 21, Orig-A
10/17/13 | GA | Waynesboro | Burke County | 3/5868 | 9/5/13 | RNAV (GPS) RWY 8, Orig
10/17/13 | GA | Waynesboro | Burke County | 3/5871 | 9/5/13 | RNAV (GPS) RWY 26, Orig
10/17/13 | UT | Salt Lake City | Salt Lake City Intl | 3/6094 | 8/29/13 | LDA/DME RWY 35, Orig
10/17/13 | MI | Port Huron | St Clair County Intl | 3/6260 | 8/29/13 | ILS OR LOC RWY 4, Amdt 3B
10/17/13 | IA | Sioux City | Sioux Gateway/Col. Bud Day Field | 3/6352 | 9/10/13 | ILS OR LOC RWY 31, Amdt 25A
10/17/13 | IA | Sioux City | Sioux Gateway/Col. Bud Day Field | 3/6353 | 9/10/13 | VOR OR TACAN RWY 31, Amdt 26B
10/17/13 | IA | Sioux City | Sioux Gateway/Col. Bud Day Field | 3/6354 | 9/10/13 | VOR/DME OR TACAN RWY 13, Amdt 18A
10/17/13 | IA | Sioux City | Sioux Gateway/Col. Bud Day Field | 3/6355 | 9/10/13 | NDB RWY 31, Amdt 23C
10/17/13 | IA | Sioux City | Sioux Gateway/Col. Bud Day Field | 3/6356 | 9/10/13 | NDB RWY 13, Amdt 15E
10/17/13 | IA | Sioux City | Sioux Gateway/Col. Bud Day Field | 3/6357 | 9/10/13 | ILS OR LOC RWY 13, Amdt 2
10/17/13 | IA | Sioux City | Sioux Gateway/Col. Bud Day Field | 3/6358 | 9/10/13 | NDB RWY 35, Orig-D
10/17/13 | CA | Santa Rosa | Charles M. Schulz-Sonoma County | 3/6496 | 9/5/13 | VOR/DME RWY 14, Amdt 2A
10/17/13 | CA | Santa Rosa | Charles M. Schulz-Sonoma County | 3/6498 | 9/5/13 | ILS OR LOC RWY 32, Amdt 18
10/17/13 | CA | Santa Rosa | Charles M. Schulz-Sonoma County | 3/6500 | 9/5/13 | VOR RWY 32, Amdt 19
10/17/13 | OR | Ontario | Ontario Muni | 3/6541 | 9/5/13 | NDB RWY 32, Amdt 5
10/17/13 | OR | Ontario | Ontario Muni | 3/6542 | 9/5/13 | RNAV (GPS) RWY 14, Orig
10/17/13 | OR | Ontario | Ontario Muni | 3/6547 | 9/5/13 | RNAV (GPS) RWY 32, Orig
10/17/13 | CA | Lompoc | Lompoc | 3/6740 | 9/10/13 | VOR/DME A, Amdt 5
10/17/13 | CO | Montrose | Montrose Rgnl | 3/6741 | 9/5/13 | RNAV (GPS) RWY 13, Orig
10/17/13 | CO | Montrose | Montrose Rgnl | 3/6744 | 9/5/13 | RNAV (GPS) Y RWY 17, Orig
10/17/13 | CO | Montrose | Montrose Rgnl | 3/6745 | 9/5/13 | VOR/DME RWY 13, Amdt 9
10/17/13 | CO | Montrose | Montrose Rgnl | 3/6747 | 9/5/13 | RNAV (GPS) RWY 35, Orig
10/17/13 | CO | Montrose | Montrose Rgnl | 3/6749 | 9/5/13 | ILS OR LOC/DME RWY 17, Amdt 2
10/17/13 | CO | Montrose | Montrose Rgnl | 3/6750 | 9/5/13 | RNAV (GPS) Z RWY 17, Orig
10/17/13 | WI | Fond Du Lac | Fond Du Lac County | 3/6783 | 8/29/13 | Takeoff Minimums and (Obstacle) DP, Amdt 1A
10/17/13 | KS | Wichita | Beech Factory | 3/6894 | 9/10/13 | RNAV (GPS) RWY 19, Amdt 1
10/17/13 | KS | Wichita | Beech Factory | 3/6896 | 9/10/13 | RNAV (GPS) RWY 1, Amdt 1
10/17/13 | CA | Redding | Redding Muni | 3/7581 | 8/29/13 | Takeoff Minimums and (Obstacle) DP, Amdt 5
10/17/13 | FL | Orlando | Orlando Intl | 3/7948 | 9/10/13 | ILS RWY 17R (CAT II), Amdt 5B
10/17/13 | FL | Orlando | Orlando Intl | 3/7952 | 9/10/13 | ILS RWY 17L (CAT II), Amdt 1B
10/17/13 | FL | Orlando | Orlando Intl | 3/7956 | 9/10/13 | RNAV (GPS) RWY 17L, Orig-A
10/17/13 | FL | Orlando | Orlando Intl | 3/7964 | 9/10/13 | RNAV (GPS) RWY 17R, Orig-A
10/17/13 | FL | Orlando | Orlando Intl | 3/7976 | 9/10/13 | ILS OR LOC RWY 17L, Amdt 1B
10/17/13 | FL | Orlando | Orlando Intl | 3/7978 | 9/10/13 | RNAV (GPS) RWY 18R, Orig-A
10/17/13 | FL | Orlando | Orlando Intl | 3/7984 | 9/10/13 | RNAV (GPS) RWY 18L, Orig-A
10/17/13 | FL | Orlando | Orlando Intl | 3/7986 | 9/10/13 | ILS OR LOC RWY 17R, Amdt 5B
10/17/13 | FL | Orlando | Orlando Intl | 3/7992 | 9/10/13 | ILS OR LOC RWY 18R, Amdt 9B
10/17/13 | VA | Newport News | Newport News/Williamsburg Intl | 3/8836 | 9/10/13 | RNAV (GPS) RWY 2, Amdt 1
10/17/13 | VA | Newport News | Newport News/Williamsburg Intl | 3/8841 | 9/10/13 | NDB RWY 20, Amdt 5
10/17/13 | VA | Newport News | Newport News/Williamsburg Intl | 3/8842 | 9/10/13 | ILS OR LOC RWY 25, Amdt 1
10/17/13 | VA | Newport News | Newport News/Williamsburg Intl | 3/8843 | 9/10/13 | RNAV (GPS) RWY 25, Amdt 2
10/17/13 | VA | Newport News | Newport News/Williamsburg Intl | 3/8844 | 9/10/13 | ILS OR LOC RWY 7, Amdt 33
10/17/13 | VA | Newport News | Newport News/Williamsburg Intl | 3/8845 | 9/10/13 | NDB RWY 2, Amdt 6
10/17/13 | VA | Newport News | Newport News/Williamsburg Intl | 3/8848 | 9/10/13 | LOC/DME RWY 20, Amdt 1
10/17/13 | TX | Waco | Waco Rgnl | 3/8873 | 9/10/13 | VOR RWY 14, Amdt 23
10/17/13 | TX | Waco | Waco Rgnl | 3/8874 | 9/10/13 | ILS OR LOC RWY 19, Amdt 16
10/17/13 | TX | Waco | Waco Rgnl | 3/8875 | 9/10/13 | VOR/DME RWY 32, Amdt 15
10/17/13 | TX | Waco | Waco Rgnl | 3/8877 | 9/10/13 | RNAV (GPS) RWY 14, Orig
10/17/13 | TX | Waco | Waco Rgnl | 3/8878 | 9/10/13 | RNAV (GPS) RWY 19, Orig
10/17/13 | VA | Newport News | Newport News/Williamsburg Intl | 3/8963 | 9/10/13 | RNAV (GPS) RWY 20, Amdt 2
10/17/13 | VA | Danville | Danville Rgnl | 3/9267 | 9/5/13 | RNAV (GPS) RWY 20, Orig
10/17/13 | AK | Homer | Homer | 3/9439 | 8/29/13 | LOC/DME BC RWY 22, Amdt 5
10/17/13 | TX | Waco | Waco Rgnl | 3/9722 | 9/10/13 | RNAV (GPS) RWY 32, Orig-A

[FR Doc. 2013-23486 Filed 9-27-13; 8:45 am]

BILLING CODE 4910-13-P